DEPARTMENT OF COMMERCE

National Oceanic and Atmospheric Administration

[I.D. 033103G]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Habitat and Monkfish Oversight Committees in April, 2003 to consider actions affecting New England fisheries in the exclusive economic zone (EEZ). Recommendations from these groups will be brought to the full Council for formal consideration and action, if appropriate.

DATES: The meetings will be held on April 22, 2003 and April 24, 2003. See SUPPLEMENTARY INFORMATION for specific dates and times.

ADDRESSES: The meetings will be held in Portsmouth, NH and Warwick, RI. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Tuesday, April 22, 2003 at 9 a.m.-Habitat Oversight Committee Meeting.

Location: Courtyard Marriott, 1000 Market Street, Portsmouth, NH 03801; telephone: (603) 436-2121.

The committee will review recommendations from the Habitat Technical Team related to Essential Fish Habitat requirements for Amendment 2 to the Monkfish Fishery Management Plan (FMP) and Amendment 1 to the Herring FMP. They will also review the recommendations from the Joint Advisory Panel and Habitat Technical Team meeting, scheduled for April 10, 2003. The purpose of this Joint Advisors meeting is to develop one habitat closed area alternative to be incorporated into both Amendment 10 to the Scallop FMP and Amendment 13 to the Multispecies FMP. The Committee will review this recommendation and preliminary analysis of this alternative.

Thursday, April 24, 2003 at 9 a.m.-Monkfish Oversight Committee Meeting.

Location: Sheraton Providence Airport Hotel, 1850 Post Road, Warwick, RI; telephone: (401) 738-4000.

The Committee will discuss issues and options to be included in the Amendment 2 Draft Environmental Impact Statement (DSEIS). The Committee will also consider the recommendations of the Habitat Committee, and the enforcement analysis prepared by the Enforcement Committee. Amendment 2 alternatives being considered include, but are not limited to; permit qualification criteria for vessels fishing south of 38°N; management program for a deepwater directed fishery in the SFMA; separation of monkfish days-at-sea (DAS) from multispecies and sea scallop DAS programs; counting of monkfish DAS as 24-hour days; measures to minimize impacts of the fishery on endangered sea turtles; measures to minimize bycatch in directed and non-directed fisheries; an exemption program for vessels fishing for monkfish outside of the EEZ (in the NAFO Regulated Area); alternative measures to minimize impacts of the fishery on essential fish habitat; measures to improve data collection and research on monkfish, including mechanisms for funding cooperative research programs; and, timing of the annual review and adjustment process. The Committee may develop and recommend other management alternatives not included in the list above.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 1, 2003.
Theophilus R. Brainerd,
Acting Director, Office of Sustainable Fisheries, National Marine Fisheries Service.

[FR Doc. 03-8557 Filed 4-7-03; 8:45 am]

BILLING CODE 3510-22-S